NUCLEAR REGULATORY COMMISSION

[Docket No. 72-1051; NRC-2018-0052]

Holtec International HI-STORE Consolidated Interim Storage Facility Project

AGENCY: Nuclear Regulatory Commission.

ACTION: Intent to prepare an environmental impact statement; conduct a scoping process; request for comment.

SUMMARY: The U.S. Nuclear Regulatory Commission (NRC) received a license application by letter dated March 30, 2017, from Holtec International (Holtec). By this application, Holtec is requesting authorization to construct and operate a HI-STORE consolidated interim storage facility (CISF) for spent nuclear fuel at a site in Lea County, New Mexico (the proposed action). Holtec intends to initially store 500 canisters or 8680 metric tons of uranium in the CISF and eventually store up to 10,000 canisters in the CISF. The NRC staff will prepare an EIS to document the potential environmental impacts from the proposed action. As part of the EIS development process, the NRC is seeking comments on the scope of its environmental review.

DATES: Submit comments by May 29, 2018. Comments received after this date will be considered if it is practical to do so, but the Commission is able to ensure consideration only for comments received before this date.

ADDRESSES: You may submit comments by any of the following methods:

• Federal Rulemaking website: Go to http://www.regulations.gov and search for Docket ID NRC-2018-0052. Address questions about NRC dockets to Jennifer Borges; telephone: 301-287-9127; email: Jennifer.Borges@nrc.gov. For technical questions, contact the individual(s) listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Jill Caverly, Office of Nuclear Material Safety and Safeguards, U.S. Nuclear Regulatory Commission, Washington DC, 20555-0001; telephone: 301-415-7674; email: Jill.Caverly@nrc.gov.

SUPPLEMENTARY INFORMATION:

I. Obtaining Information and Submitting Comments

A. Obtaining Information

Please refer to Docket ID NRC-2018-0052 when contacting the NRC about the availability of information regarding this document. You may obtain publicly-available information related to this action by the following methods:

• Federal Rulemaking website: Go to http://www.regulations.gov and search for Docket ID NRC-2018-0052.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. In addition, for the convenience of the reader, instructions about obtaining materials referenced in this document are provided in a table in Section VII of this notice entitled, Availability of Documents.

• NRC'S PDR: You may examine and purchase copies of public documents at the NRC's PDR, Room O1-F21, One White Flint North, 11555 Rockville Pike, Rockville, Maryland 20852.

• Project web page: Information related to the Holtec HI-STORE CISF project can be accessed on the NRC's Holtec HI-STORE CISF web page at https://www.nrc.gov/waste/spent-fuel-storage/cis/holtec-international.html.

B. Submitting Comments

Please include Docket ID NRC-2018-0052 in your comment submission. Written comments may be submitted during the scoping period as described in the ADDRESSES section of the document.

The NRC cautions you not to include identifying or contact information that you do not want to be publicly disclosed in your comment submission. The NRC posts all comment submissions at https://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

By letter dated March 30, 2017, Holtec submitted an application to the NRC for a specific license, pursuant to part 72 of title 10 of the Code of Federal Regulations (10 CFR), “Licensing Requirements for the Independent Storage of Spent Nuclear Fuel, High-Level Radioactive Waste, and Reactor-Related Greater Than Class C Waste.” Holtec is seeking to construct and operate a HI-STORE CISF for spent nuclear fuel in Lea County, New Mexico. As proposed by Holtec, the request is to initially possess and store 500 canisters or up to 8,680 metric tons of uranium (MTUs) and subsequently amend the license to eventually store up to 10,000 canisters for a 40-year license period. The proposed Holtec HI-STORE CISF site is located in southeastern New Mexico, 32 miles east of Carlsbad, New Mexico and 34 miles west of Hobbs, New Mexico.

The NRC staff has completed an acceptance review of Holtec's HI-STORE CISF license application. By letter dated July 7, 2017, the NRC staff provided the results of its initial acceptance review to Holtec and requested supplemental information in order to accept the application for detailed review. Holtec, by letters dated, October 6, 2017 and December 22, 2017, provided the supplemental information related to its application. The NRC staff has reviewed the additional information and determined it contains sufficient information for NRC to conduct a detailed technical review. The environmental report (ER) can be found on the NRC's project-specific web page at https://www.nrc.gov/waste/spent-fuel-storage/cis/holtec-international.html.

The purpose of this notice is to: (1) Inform the public that the NRC staff will prepare an EIS as part of its review of Holtec's HI-STORE CISF license application in accordance with 10 CFR part 51, “Environmental Protection Regulations for Domestic Licensing and Related Regulatory Functions,” and (2) provide the public with an opportunity to participate in the environmental scoping process as defined in 10 CFR 51.29. In addition, as outlined in 36 CFR 800.8, “Coordination with the National Environmental Policy Act,” the NRC plans to coordinate compliance with Section 106 of the National Historic Preservation Act in meeting the requirements of the National Environmental Policy Act of 1969 (NEPA). The NRC staff also will document its compliance with other applicable federal statutes, such as the Endangered Species Act, in the EIS.

III. Environmental Review

The EIS prepared by the NRC staff will examine the potential environmental impacts of the proposed action. The NRC staff will evaluate the potential impacts to various environmental resources, such as air quality, surface and ground water, transportation, geology and soils, and socioeconomics. The EIS will analyze potential impacts of Holtec's proposed facility on historic and cultural resources and on threatened and endangered species. Additionally, the economic, technical, and other benefits and costs of the proposed action and alternatives will be considered in the EIS.

The NRC staff will also conduct a safety review to determine Holtec's compliance with NRC's regulations, including 10 CFR part 20, “Standards for Protection Against Radiation” and 10 CFR part 72. The NRC staff's findings will be published in a safety evaluation report.

IV. CISF Construction and Operation

The NRC's Federal action is to either grant or deny Holtec's request for a license. If the NRC approves Holtec's request, then Holtec could proceed with the proposed project—the construction and operation of the CISF—as described in its application and summarized here.

Holtec proposes to construct the CISF on an approximately 4.21 square kilometer (1040 acre) site in Lea County, New Mexico. The site is located 32 miles east of Carlsbad, New Mexico and 34 miles west of Hobbs, New Mexico. Holtec is currently requesting authorization to possess and store 500 canisters of spent nuclear fuel (SNF) containing up to 8,680 MTUs, which includes spent uranium-based fuel from commercial nuclear reactors as well as a small quantity of spent mixed-oxide fuel. If the requested license is issued by the NRC, Holtec anticipates subsequently requesting an amendment to the license to request authorization to possess and store SNF containing an additional 500 canisters or up to 8,680 MTU for each of 19 subsequent expansion phases to be completed over the course of 20 years. Ultimately, Holtec anticipates that approximately 10,000 canisters of SNF would be stored at the CISF upon completion of 20 phases. Each phase would require NRC review and approval.

Holtec would receive canisters containing SNF from the reactor sites, and once accepted at its site, Holtec would transfer them into onsite dry cask storage systems. Holtec would employ the HI-STORM UMAX canister storage system which is certified by the NRC (Docket No. 72-1040). HI-STORM UMAX stores sealed canisters containing SNF in a subterranean in-ground vertical ventilated module. Holtec is requesting a license for a term of 40 years.

V. Alternatives To Be Evaluated

The EIS will analyze the environmental impacts of the proposed action, the no-action alternative, and reasonable alternatives. A brief description of each is provided below.

No-Action Alternative—the no-action alternative would be to deny the license application. Under this alternative, the NRC would not issue the license and Holtec would not construct nor operate the CISF at its site in southeast New Mexico. This alternative serves as a baseline for the comparison of environmental impacts of the proposed action and the reasonable alternatives.

Proposed action—the proposed Federal action is to issue a license to Holtec authorizing the company to construct and operate the CISF. If the NRC approves the license application, it would issue Holtec a specific license under the provisions of 10 CFR part 72, and Holtec would proceed with the proposed activities.

Alternatives to the Proposed Action—other alternatives not listed here may be identified during scoping or through the environmental review process.

VI. Scope of the Environmental Review

The NRC staff is conducting a scoping process for the Holtec HI-STORE CISF EIS, which begins on the day this notice appears in the Federal Register. In accordance with 10 CFR 51.29, the NRC seeks public input to help the NRC determine the appropriate scope of the EIS, including significant environmental issues to be analyzed in depth, as well as those that should be eliminated from detailed study because they are peripheral or are not significant. The NRC staff is planning to publish information related to this action in newspapers serving the communities near the Holtec site, requesting information and comments from the public. Additionally, the NRC is planning to hold public scoping meetings to receive comments in person in accordance with 10 CFR 51.26. The dates, times, and locations for any meetings will be provided in a future Federal Register notice.

After the close of the scoping period, the NRC staff will prepare a concise summary of its scoping process, the comments received, as well as the NRC's responses. The Scoping Summary Report will be included in NRC's draft EIS as an appendix and sent to each participant in the scoping process for whom the staff has an address.

The Holtec HI-STORE CISF EIS will address the potential impacts from the proposed action. The anticipated scope of the EIS will consider both radiological and non-radiological impacts associated with the proposed project and its alternatives. The EIS will also consider unavoidable adverse environmental impacts, the relationship between short-term uses of resources and long-term productivity, and irreversible and irretrievable commitments of resources. The following resource areas have been tentatively identified for analysis in the EIS: Land use, transportation, geology and soils, water resources, ecological resources, air quality and climate change, noise, historical and cultural resources, visual and scenic resources, socioeconomics, public and occupational health, waste management, environmental justice, and cumulative impacts. This list is not intended to be exhaustive, nor is it a predetermination of potential environmental impacts. The EIS will describe the NRC staff's approach and methodology undertaken to determine the resource areas that will be studied in detail and the NRC staff's evaluation of potential impacts to those resource areas.

The NRC encourages members of the public, local, State, Tribal, and Federal government agencies to participate in the scoping process. Written comments may be submitted during the scoping period as described in the ADDRESSES and SUPPLEMENTARY INFORMATION section of this document. Participation in the scoping process for the Holtec HI-STORE CISF EIS does not entitle participants to become parties to any proceeding to which the EIS relates.

In addition to requesting scoping comments through this Federal Register notice, the NRC staff also intends to reach out to interested stakeholders, including other Federal and State agencies and Indian Tribes. The NRC staff seeks to identify, among other things, all review and consultation requirements related to the proposed action, and agencies with jurisdiction by law or special expertise with respect to any environmental impact involved or which is authorized to develop and enforce relevant environmental standards. The NRC invites such agencies to participate in the scoping process and, as appropriate, cooperate in the preparation of the EIS.

The NRC staff will continue its environmental review of Holtec's HI-STORE CISF license application, and with its contractor, prepare a draft EIS and, as soon as practicable, publish it for public comment. The NRC staff plans to have a public comment period for the draft EIS. Availability of the draft EIS and the dates of the public comment period will be announced in a future Federal Register notice. The final EIS will include NRC's responses to public comments received on the draft EIS.

VII. Availability of Documents

The documents identified in this Federal Register notice are accessible to interested persons by the means indicated in either the SUPPLEMENTARY INFORMATION section of this notice or in the table below:

Document | Adams Accession No.
Holtec's HI-STORE CISF license application and Environmental Report Rev. 0 (March 2017) | ML17115A418 ML17139C535
NRC's request for supplemental information (July 2017) | ML17191A357 ML17191A358
Holtec's submittal of responses to NRC's request for supplemental information and Environmental Report Rev. 0A (October 2017) | ML17310A234 ML17345B064
Holtec's submittal of responses to NRC's request for supplemental information and Environmental Report Rev. 1 (December 2017) | ML17362A093 ML18023A904
NRC's response to Holtec and acceptance of the application for docketing and detailed review (February 28, 2018) | ML18059A251

Dated at Rockville, Maryland, on March 26, 2018.
For the Nuclear Regulatory Commission.
Craig G. Erlanger,
Director, Division of Fuel Cycle Safety, Safeguards, and Environmental Review, Office of Nuclear Material Safety and Safeguards.

[FR Doc. 2018-06398 Filed 3-29-18; 8:45 am]

BILLING CODE 7509-01-P